DEPARTMENT OF DEFENSE

Department of the Army, Corps of Engineers

Upper Columbia Alternative Flood Control and Fish Operations, Libby and Hungry Horse Dams, MT

AGENCY: Corps of Engineers, DoD.

ACTION: Notice of Availability of a Final Environmental Impact Statement.

SUMMARY: The U.S. Army Corps of Engineers (Corps), Seattle District, announces the availability of the Final Environmental Impact Statement (FEIS) for Upper Columbia Alternative Flood Control and Fish Operations. The U.S. Bureau of Reclamation (Reclamation) is a cooperating agency for this FEIS. The document describes and analyzes the environmental impacts of alternative flood control operations at Libby Dam on the Kootenai River and at Hungry Horse Dam on the South Fork Flathead River. Both dams are located in northwestern Montana. The overall goal of the FEIS is to evaluate effects of alternative dam operations to provide better reservoir and flow conditions at and below Libby and Hungry Horse Dams for anadromous and resident fish listed as threatened or endangered under the Endangered Species Act (ESA), consistent with authorized project purposes, including maintaining the current level of flood control benefits. Two new alternatives for Libby Dam were added in the FEIS and the Corps is particularly interested in any comments on those alternatives which are described in Section 2.2 and evaluated in Section 3.3 of the FEIS.

DATES: A Record of Decision (ROD) will be issued by each agency no sooner than May 30, 2006 (the first business day at least 30 days after the Environmental Protection Agency's Notice of Availability for this FEIS in the April 28, 2006, Federal Register).

ADDRESSES: The FEIS may be accessed online at http://www.nws.usace.army.mil/PublicMenu/Menu.cfm?sitename=VARQ&pagename=VARQ.

Compact discs or hard copies of the entire document or the executive summary are available upon request from the address below. Mail comments relating to the FEIS to Mr. Evan Lewis, Environmental Resources Section, U.S. Army Corps of Engineers, Seattle District, P.O. Box 3755, Seattle, Washington 98124-3755, or submit electronic comments to uceis@usace.army.mil. For electronic comments, please include your name and address in your message. Comments may also be sent via fax to (206) 764-4470.

FOR FURTHER INFORMATION CONTACT: Mr. Evan Lewis at (206) 764-6922, or E-mail: evan.r.lewis@usace.army.mil.

SUPPLEMENTARY INFORMATION: The Corps, in cooperation with Reclamation, has prepared an FEIS that considers alternative flood control and fish operations at Libby and Hungry Horse dams in northwestern Montana. The FEIS evaluates an action and a no-action alternative for Hungry Horse Dam (operated by Reclamation), and 5 action alternatives and a no-action alternative for Libby Dam (operated by the Corps).

Hungry Horse alternatives are:

• Alternative HS (No Action): Hungry Horse Dam operations using Standard flood control (FC) with bull trout and salmon augmentation flows. In very general terms, Standard FC operations are based on the principle of providing deep drafts for flood control, then minimizing outflow during the refill period from May through June 30.

• Alternative HV (Preferred Alternative): Hungry Horse Dam operations using variable discharge (VARQ) FC to increase the likelihood of refill (store more water) with bull trout and salmon augmentation flows (seasonal flow targets to enhance conditions downstream for these species). This is the current interim operation at Hungry Horse Dam.

Libby Dam alternatives are:

• Alternative LS1 (No Action): Libby Dam operations using Standard FC with sturgeon, bull trout, and salmon flow augmentation. Sturgeon flow augmentation would provide tiered sturgeon volumes, as adopted in the 2006 U.S. Fish and Wildlife Service (FWS) Biological Opinion (BiOp) on Libby Dam operations, using a maximum Libby Dam release rate up to the existing powerhouse capacity (about 25,000 cubic feet per second, or 25 kcfs). Dam releases for sturgeon flows would be timed and optimized to provide for temperatures of 50 ° F with no more than a 3.6 ° F drop for all of the Libby alternatives.

• Alternative LV1: Libby Dam operations similar to Alternative LS1, but with VARQ FC rather than Standard FC. Alternative LV1 is the current interim operation at Libby Dam.

• Alternative LS2: Libby Dam operations similar to Alternative LS1, except that sturgeon flow augmentation would provide tiered sturgeon volumes using a maximum Libby Dam release rate at some level up to 10 kcfs above the approximately 25 kcfs powerhouse capacity. Alternative LS2 does not identify a specific mechanism to achieve the 10 kcfs of additional flow and the corresponding analysis presumes that the full 10 kcfs of flow above powerhouse capacity would be provided for all sturgeon flow augmentation events, except when limited to avoid exceeding flood stage of 1,764 feet at Bonners Ferry, Idaho. Therefore, it portrays the maximum extent of impacts associated with these flows.

• Alternative LV2: Libby Dam operations similar to Alternative LV1, except that sturgeon flow augmentation would provide tiered sturgeon volumes using a maximum Libby Dam release rate at some level up to 10 kcfs above the approximately 25 kcfs powerhouse capacity. As with Alternative LS2, Alternative LV2 does not identify a specific mechanism to achieve the 10 kcfs of additional flow and the corresponding analysis presumes that the full 10 kcfs of flow above powerhouse capacity would be provided for all sturgeon flow augmentation events except when limited to avoid exceeding flood stage of 1,764 feet at Bonners Ferry, Idaho. As with LS2, it portrays the maximum extent of impacts associated with these flows.

• Alternative LSB: Libby Dam operations using Standard FC with sturgeon, bull trout, and salmon flow augmentation. Sturgeon flow augmentation would provide tiered sturgeon volumes consistent with the 2006 FWS BiOp. Annual operations would be based on a scientific approach for testing different releases from Libby Dam and determining the effectiveness for achieving the habitat attributes and meeting the conservation needs established for sturgeon as described in the 2006 BiOp. Specific details are being developed in a Flow Plan Implementation Protocol in collaboration with the states of Montana and Idaho, interested tribes and other Federal agencies. Maximum peak augmentation flows would be provided for up to 14 days, when water supply conditions are conducive, during the peak of the spawning period. After the peak augmentation flows, remaining water in the sturgeon tier would be provided to maximize flows for up to 21 days with a gradually receding hydrograph. Under LSB, Libby Dam would provide sturgeon flow augmentation either with dam releases up to existing powerhouse capacity, or with dam releases to powerhouse capacity plus up to 10 kcfs via the Libby Dam spillway. Under Standard FC, simulations indicate that the appropriate reservoir and water supply conditions to allow for releases of sturgeon flows via the Libby Dam spillway would occur for some period of time in approximately 25% of years. Actual duration and quantity of spill operations would vary in any given year when spill is provided based on actual water supply.

• Alternative LVB (Preferred Alternative): Libby Dam operations similar to Alternative LSB, but with VARQ FC rather than Standard FC. Under VARQ FC, simulations indicate that the appropriate reservoir and water supply conditions to allow for releases of sturgeon flows from the Libby Dam spillway for some period of time would occur in approximately 50% of years. Actual duration and quantity of spill operations would vary in any given year when spill is provided based on actual water supply.

Alternatives LSB and LVB represent new alternatives that were added to the FEIS in response to the U.S. Fish and Wildlife Service's issuance of a new BiOp on Libby Dam operations on Feb. 18, 2006. The 2006 BiOp recommends the implementation of actions by the Corps, including increased releases by Libby Dam in accordance with the Endangered Species Act (ESA). Alternatives LSB and LVB would provide flexibility to operate Libby Dam with a range of releases to achieve habitat attributes for sturgeon using the 2006 FWS BiOp's performance-based approach, with the spillway as the only currently available mechanism for achieving flows up to 10,000 cfs above current powerhouse capacity.

In order to ensure that the Corps' actions are consistent with the terms of the 2006 USFWS BiOp, and due to Reclamation's ongoing consultation under Section 106 of the National Historic Preservation Act (NHPA), Reclamation decided to step down from co-lead status on the FEIS and move to cooperating agency status under NEPA regulations. Each agency will prepare its own Record of Decision (ROD) for its respective dams to implement the FEIS for future operations. The Corps plans to issue a ROD for Libby Dam during the spring of 2006. As a cooperating agency, Reclamation may choose to adopt and/or expand upon portions of the FEIS that apply to Reclamation's actions at Hungry Horse Dam. Reclamation plans to issue a ROD on the proposed implementation of the FEIS at Hungry Horse dam following the Reclamation's completion of NHPA Section 106 consultation and NEPA analysis and documentation. In the interim, Reclamation will continue to implement such operations as described in its March 2002 voluntary Environmental Assessment.

The Corps will accept comments on the FEIS until May 30, 2006. Comments on the FEIS will be addressed in the appropriate agency's ROD.

Copies of the FEIS are available for public review at libraries throughout the potentially affected portions of the Kootenai, Flathead, Clark Fork, Pend Oreille, and upper Columbia basins in the U.S. and Canada. See ADDRESSES for instructions for requesting a copy of the FEIS.

The FEIS has been prepared in accordance with (1) The National Environmental Policy Act (NEPA) of 1969, as amended (42 U.S.C. 4321 et seq.), (2) regulations of the Council on Environmental Quality for implementing the procedural provisions of NEPA (40 CFR parts 1500-1508), and (3) Corps regulations implementing NEPA (ER-200-2-2).

Dated: April 20, 2006.
Debra M. Lewis,
Colonel, District Commander, Seattle District, U.S. Army Corps of Engineers.

[FR Doc. E6-6532 Filed 4-28-06; 8:45 am]

BILLING CODE 3710-92-P